DEPARTMENT OF AGRICULTURE

Animal and Plant Health Inspection Service

9 CFR Part 77

[Docket No. APHIS-2011-0075]

Tuberculosis in Cattle and Bison; State and Zone Designations; Michigan

AGENCY: Animal and Plant Health Inspection Service, USDA.

ACTION: Interim rule and request for comments.

SUMMARY: We are amending the bovine tuberculosis regulations to adjust the boundaries of the modified accredited, modified accredited advanced, and accredited-free tuberculosis risk classification zones for the State of Michigan. We have determined that 55 counties that are currently designated modified accredited advanced status now meet our requirements for accredited-free status. In addition, Iosco and Ogemaw Counties, of which some portions are designated modified accredited and other portions designated modified accredited advanced, now meet the requirements for accredited-free status. We also have determined that Presque Isle County, which is currently designated modified accredited, now meets our requirements for modified accredited advanced status. These actions lessen restrictions on the interstate movement of cattle and bison from these areas of Michigan.

DATES: This interim rule is effective September 14, 2011. We will consider all comments that we receive on or before November 14, 2011.

ADDRESSES: You may submit comments by either of the following methods:

• Federal eRulemaking Portal: Go to http://www.regulations.gov/#!documentDetail;D=APHIS-2011-0075-0001.

• Postal Mail/Commercial Delivery: Send your comments to Docket No. APHIS-2011-0075, Regulatory Analysis and Development, PPD, APHIS, Station 3A-03.8, 4700 River Road, Unit 118, Riverdale, MD 20737-1238.

Supporting documents and any comments we receive on this docket may be viewed at http://www.regulations.gov/#!docketDetail;D=APHIS-2011-0075 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. C. William Hench, Senior Staff Veterinarian, Eradication and Surveillance Team, National Center for Animal Health Programs, VS, APHIS, 2150 Centre Avenue, Building B-3E20, Fort Collins, CO 80526-8117; (970) 494-7378.

SUPPLEMENTARY INFORMATION:

Background

Bovine tuberculosis is a contagious and infectious granulomatous disease caused by the bacterium Mycobacterium bovis. Although commonly defined as a chronic debilitating disease, bovine tuberculosis can occasionally assume an acute, rapidly progressive course. While any body tissue can be affected, lesions are most frequently observed in the lymph nodes, lungs, intestines, liver, spleen, pleura, and peritoneum. Although cattle are considered to be the true hosts of M. bovis, the disease has been reported in several other species of both domestic and nondomestic animals, as well as in humans.

At the beginning of the past century, tuberculosis caused more losses of livestock than all other livestock diseases combined. This prompted the establishment in the United States of the National Cooperative State/Federal Bovine Tuberculosis Eradication Program for tuberculosis in livestock.

In carrying out the national eradication program, the Animal and Plant Health Inspection Service (APHIS) issues and enforces regulations. The regulations require the testing of cattle and bison for tuberculosis, define the Federal tuberculosis status levels for States or zones (accredited-free, modified accredited advanced, modified accredited, accreditation preparatory, and nonaccredited), provide the criteria for attaining and maintaining those status levels, and contain testing and movement requirements for cattle and bison leaving States or zones of a particular status level. These regulations are contained in 9 CFR part 77 (referred to below as the regulations) and in the Bovine Tuberculosis Eradication Uniform Methods and Rules, 1999 (UMR), which is incorporated by reference into the regulations. The regulations restrict the interstate movement of cattle, bison, and captive cervids to prevent the spread of tuberculosis.

Subpart B of the regulations contains requirements for the interstate movement of cattle and bison not known to be infected with or exposed to tuberculosis. The interstate movement requirements depend upon whether the animals are moved from an accredited-free State or zone, modified accredited advanced State or zone, modified accredited State or zone, accreditation preparatory State or zone, or nonaccredited State or zone.

Request for Boundary Adjustment of Modified Accredited, Modified Accredited Advanced, and Accredited-Free Zones in Michigan

The status of a State or zone is based on its freedom from evidence of tuberculosis in cattle and bison, the effectiveness of the State's tuberculosis eradication program, and the degree of the State's compliance with the standards for cattle and bison contained in the UMR. In addition, the regulations allow that a State may request split-State status via partitioning into specific geographic regions or zones with differential status designations if bovine tuberculosis is detected in a portion of a State and the State demonstrates that it meets certain criteria with regard to zone classification.

The State of Michigan is currently divided into three zones with different classifications. The first zone, which is classified as accredited-free, comprises an area in Michigan known as the Upper Peninsula that comprises Alger, Baraga, Chippewa, Delta, Dickinson, Gogebic, Houghton, Iron, Keweenaw, Luce, Mackinac, Marquette, Menominee, Ontonagon, and Schoolcraft Counties. The second zone, which is classified as modified accredited, comprises Alcona, Alpena, Montmorency, Oscoda, and Presque Isle Counties and those portions of Iosco and Ogemaw Counties that are north of the southernmost boundary of the Huron National Forest and the Au Sable State Forest. The third zone comprises the remainder of the State and is classified as modified accredited advanced.

We have received a request from the State of Michigan for changes to the boundaries of these zones. Specifically, State animal health officials asked that the status of 55 counties and the portions of Iosco and Ogemaw counties south of the southernmost boundary of the Huron National Forest and the Au Sable State Forest be raised from modified accredited advanced status to accredited-free status and the status of the remaining areas in Iosco and Ogemaw Counties be raised from modified accredited to accredited-free. The State of Michigan also requested that the status of Presque Isle County be raised from modified accredited to modified accredited advanced. In their request, Michigan officials demonstrated to APHIS that the counties described above meet the criteria for the new statuses set forth in the definitions of modified accredited advanced State or zone and accredited-free State or zone in § 77.5 of the regulations. Additionally, the State complies with the conditions of the UMR.

Immediate Action

Immediate action is warranted to relieve restrictions on the interstate movement of cattle and bison from the newly classified modified accredited advanced and accredited free zones in Michigan. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with the Regulatory Flexibility Act, we have analyzed the potential economic effects of this action on small entities. The analysis is summarized below. The full analysis may be viewed on the Regulations.gov Web site (see ADDRESSES above for instructions for accessing Regulations.gov) or obtained from the person listed under FOR FURTHER INFORMATION CONTACT.

Michigan currently has a split State status for bovine tuberculosis with an accredited-free zone, a modified accredited advanced zone, and a modified accredited zone. This interim rule will reclassify the status of 55 counties from modified accredited advanced status to accredited-free status. In addition, Presque Isle County will be reclassified from modified accredited to modified accredited advanced. Iosco and Ogemaw Counties, of which some portions are designated modified accredited and other portions designated modified accredited advanced, will be reclassified as accredited-free.

Modified accredited status imposes various requirements for tuberculosis testing of cattle. Reclassification to accredited-free removes all movement restrictions, and reclassification from modified accredited to modified accredited advanced reduces requirements.

Advancement of status for the above-mentioned counties will allow producers to move their cattle with fewer pre-movement testing requirements, saving time and money. Because few producers will be affected, these savings are expected to be relatively small. This action will not significantly change program operations and will have no significant effects on other Federal agencies, State governments, or local governments. Michigan animal health authorities have a plan and the capability to maintain separate tuberculosis zones within their State with separate requirements and border controls.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This interim rule contains no new information collection or recordkeeping requirements under the Paperwork Reduction Act of 1995 (44 U.S.C. 3501 et seq.).

List of Subjects in 9 CFR Part 77

Animal diseases, Bison, Cattle, Reporting and recordkeeping requirements, Transportation, Tuberculosis.

Accordingly, we are amending 9 CFR part 77 as follows:

PART 77—TUBERCULOSIS

1. The authority citation for part 77 continues to read as follows:

Authority: 7 U.S.C. 8301-8317; 7 CFR 2.22, 2.80, and 371.4.

2. In § 77.7, paragraph (b)(1) is revised to read as follows:

§ 77.7 Accredited-free States or zones.

* * * * *

(b) * * *

(1) All of the State of Michigan except for the zones that comprise those counties in Michigan described in § 77.9(b)(1) and § 77.11(b)(1).

* * * * *

3. In § 77.9, paragraph (b)(1) is revised to read as follows:

§ 77.9 Modified accredited advanced States or zones.

* * * * *

(b) * * *

(1) A zone in Michigan that comprises Antrim, Charlevoix, Cheboygan, Crawford, Emmet, Otsego, and Presque Isle Counties.

* * * * *

4. In § 77.11, paragraph (b)(1) is revised to read as follows:

§ 77.11 Modified accredited States or zones.

* * * * *

(b) * * *

(1) A zone in Michigan that comprises Alcona, Alpena, Montmorency, and Oscoda Counties.

* * * * *

Done in Washington, DC, this 7th day of September 2011.
Kevin Shea,
Acting Administrator, Animal and Plant Health Inspection Service.

[FR Doc. 2011-23432 Filed 9-13-11; 8:45 am]

BILLING CODE 3410-34-P